ENVIRONMENTAL PROTECTION AGENCY

[EPA-R07-OW-2019-0189; FRL-9992-24-Region 7]

Notice of Approval of the Primacy Revision Application for the Public Water System Supervision Program From the State of Iowa

AGENCY: Environmental Protection Agency (EPA).

ACTION: Notice of approval and solicitation of requests for a public hearing.

SUMMARY: The Environmental Protection Agency (EPA) is hereby giving notice that the state of Iowa is revising its approved Public Water System Supervision Program delegated to the Iowa Department of Natural Resources (IDNR). EPA has reviewed the application and intends to approve these program revisions.

DATES: This determination to approve the Iowa program revision is made pursuant to 40 CFR 142.12(d)(3). This determination shall become final and effective on May 30, 2019, unless (1) a timely and appropriate request for a public hearing is received or (2) the Regional Administrator elects to hold a public hearing on his own motion. Any interested person, other than Federal Agencies, may request a public hearing.

A request for a public hearing must be submitted to the Regional Administrator at the address shown below by May 30, 2019. If a request for a public hearing is made within the requested thirty-day time frame, a public hearing will be held and a notice will be given in the Federal Register and a newspaper of general circulation. Frivolous or insubstantial requests for a hearing may be denied by the Regional Administrator. If no timely and appropriate request for a hearing is received, and the Regional Administrator does not elect to hold a hearing on his own motion, this determination will become effective on May 30, 2019.

All interested parties may request a public hearing on the approval to the Regional Administrator at the EPA Region 7 address shown below.

ADDRESSES: Requests for Public Hearing shall be addressed to: Regional Administrator, Environmental Protection Agency, Region 7, 11201 Renner Boulevard, Lenexa, Kansas 66219.

FOR FURTHER INFORMATION CONTACT: Samantha Harden, Environmental Protection Agency, Region 7, Drinking Water Management Branch, (913) 551-7723, or by email at harden.smamatha@epa.gov.

SUPPLEMENTARY INFORMATION: The EPA is hereby giving notice that the state of Iowa is revising its approved Public Water System Supervision Program. IDNR revised their program by incorporating the following EPA National Primary Drinking Water Regulations: Stage 2 Disinfectants and Disinfection Byproducts Rule (71 FR 387, January 4, 2006), Long Term 2 Enhanced Surface Water Treatment Rule (71 FR 653, January 5, 2006), Ground Water Rule (71 FR 65573, November 8, 2006), Lead and Copper: Short-Term Regulatory Revisions and Clarifications (72 FR 57781, October 10, 2007), Revised Total Coliform Rule (78 FR 10269, February 13, 2013) and Minor Corrections to the Total Coliform Rule (79 FR 10665, February 26, 2014). The EPA has determined that IDNR's program revisions are consistent with and no less stringent than Federal regulations. Therefore, EPA intends to approve these program revisions.

Public Hearing Requests

Any request for a public hearing shall include the following information: (1) Name, address and telephone number of the individual, organization or other entity requesting a hearing; (2) a brief statement of the requesting person's interest in the Regional Administrator's determination and a brief statement on information that the requesting person intends to submit at such hearing; (3) the signature of the individual making the request or, if the request is made on behalf of an organization or other entity, the signature of a responsible official of the organization or other entity. Requests for Public Hearing shall be addressed to: Regional Administrator, Environmental Protection Agency, Region 7, 11201 Renner Boulevard, Lenexa, Kansas 66219.

All documents relating to this determination are available for inspection between the hours of 9:00 a.m. and 3:00 p.m., Monday through Friday at the following offices: (1) Environmental Protection Agency, Region 7, Drinking Water Management Branch, Water Wetlands and Pesticides Division, 11201 Renner Boulevard, Lenexa, Kansas 66219 and (2) the Iowa Department of Natural Resources, Wallace State Office Building, 502 East 9th Street, Des Moines, Iowa 50319.

(Authority: Section 1413 of the Safe Drinking Water Act, as amended, and 40 CFR 142.10, 142.12(d) and 142.13)

Dated: April 19, 2019.
James Gulliford,
Regional Administrator, Region 7.

[FR Doc. 2019-08732 Filed 4-29-19; 8:45 am]

BILLING CODE 6560-50-P